DEPARTMENT OF TRANSPORTATION

Pipeline and Hazardous Materials Safety Administration

Office of Hazardous Materials Safety; Notice of Application for Special Permits

AGENCY: Pipeline and Hazardous Materials Safety Administration, DOT.

ACTION: List of Applications for Special Permits.

SUMMARY: In accordance with the procedures governing the application for, and the processing of, special permits from the Department of Transportation's Hazardous Material Regulations (49 CFR Part 107, Subpart B), notice is hereby given that the Office of Hazardous Materials Safety has received the application described herein. Each mode of transportation for which a particular special permit is requested is indicated by a number in the “Nature of Application” portion of the table below as follows: 1—Motor vehicle, 2—Rail freight, 3—Cargo vessel, 4—Cargo aircraft only, 5—Passenger-carrying aircraft.

DATES: Comments must be received on or before April 2, 2007.

Address Comments to: Record Center, Pipeline and Hazardous Materials Safety Administration, U.S. Department of Transportation, Washington, DC 20590.

Comments should refer to the application number and be submitted in triplicate. If confirmation of receipt of comments is desired, include a self-addressed stamped postcard showing the special permit number.

FOR FURTHER INFORMATION CONTACT: Copies of the applications are available for inspection in the Records Center, Nassif Building, 400 7th Street, SW., Washington, DC or at http://dms.dot.gov.

This notice of receipt of applications for special permits is published in accordance with Part 107 of the Federal hazardous materials transportation law (49 U.S.C. 5117(b); 49 CFR 1.53(b)).

Issued in Washington, DC, on February 8, 2007.
Delmer F. Billings,
Director, Office of Hazardous Materials, Special Permits & Approvals.

New Special Permit
Application No. | Docket No. | Applicant | Regulation(s) affected | Nature of special permit thereof
14467-N |  | Brenner Tank, LLC, Fond du Lac, WI | 49 CFR 178.345-2 | To authorize the manufacture, marking, sale and use of DOT 400 series cargo tanks using alternative materials of construction, specifically duplex stainless steels. (mode 1).
14468-N |  | REC Advanced Silicon Materials LLC, Butte, MT | 49 CFR 173.301(f) | To authorize the transportation in commerce of certain cylinders containing Silane, compressed with a capacity over 50 L with a single relief device rather than one at each end. (modes 1, 2, 3, 4, 5).
14469-N |  | Space Systems/Loral, Palo Alto, CA | 49 CFR 172.101 column (9B) | To authorize the transportation in commerce of anhydrous ammonia by cargo aircraft exceeding the quantities authorized in Column (9B). (mode 4).
14470-N |  | Marsulex, Inc., Springfield, OR | 49 CFR 173.31(g)(1) | To authorize the transportation in commerce of certain hazardous materials by rail when the unloader does not secure access to the track as required by 49 CFR 174.67(a)(3). (mode 2).
14471-N |  | University of Colorado Hospital, Denver, CO | 49 CFR 173.12. | To authorize the one-way transportation in commerce of various hazardous materials in lab packs to facilitate relocation of laboratory facilities. (mode 1).
14472-N |  | University of Colorado Hospital, Denver, CO | 49 CFR 173.196; 178,609 | To authorize the one-way transportation in commerce of infectious substances other than Risk Group 4 in specially designed packaging (freezers). (mode 1).
14473-N |  | Weatherford International, Fort Worth, TX | 49 CFR 173.302a and 173.304a | To authorize the manufacture, marking, sale and use of a non-DOT specification cylinder similar to a DOT Specification 3A cylinder for use in the oil well sampling industry. (modes 1, 2, 3, 4).
14475-N |  | Chemtura Corporation, Middlebury, CT | 49 CFR 173.24a(a)(1) | To authorize the transportation in commerce of certain packagings containing Consumer commodity, ORM-D with closures that are not oriented in the upward direction. (modes 1, 2).

[FR Doc. 07-977 Filed 3-1-07; 8:45 am]

BILLING CODE 4909-60-M